DEPARTMENT OF ENERGY

Federal Energy Regulatory Commission

[Project No. 14787-004]

Black Canyon Hydro, LLC; Notice of Revised Schedule for the Seminoe Pumped Storage Project

This notice revises the Federal Energy Regulatory Commission's (Commission) schedule for processing Black Canyon Hydro, LLC's license application for the Seminoe Pumped Storage Project. A prior notice issued on January 10, 2024, identified an anticipated schedule for issuance of draft and final National Environmental Policy Act (NEPA) documents and a final order for the project. On September 4, 2024, Black Canyon Hydro, LLC requested an extension of time to file its historic properties management plan by October 31, 2024. Commission staff issued a letter approving the extension of time on September 11, 2024. To account for the additional time needed for Black Canyon Hydro, LLC to file the required information, the application will be processed according to the following revised schedule.

Notice of Ready for Environmental Analysis: January 2025.

Draft NEPA Document: September 2025.

Final NEPA Document: April 13, 2026.

In addition, in accordance with title 41 of the Fixing America's Surface Transportation Act, enacted on December 4, 2015, agencies are to publish completion dates for all federal environmental reviews and authorizations. This notice identifies the Commission's anticipated schedule for issuance of the final order for the project, which is based on the revised issuance date for the final NEPA document. Accordingly, we currently anticipate issuing a final order for the project no later than:

Issuance of Final Order: July 16, 2026.

If a schedule change becomes necessary, an additional notice will be provided so that interested parties and government agencies are kept informed of the project's progress.

Dated: October 18, 2024.
Debbie-Anne A. Reese,
Secretary.

[FR Doc. 2024-24802 Filed 10-24-24; 8:45 am]

BILLING CODE 6717-01-P